ENVIRONMENTAL PROTECTION AGENCY

[FRL-8176-9]

Meeting of the National Drinking Water Advisory Council—Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The primary purpose of this meeting is for the Council to be briefed on and discuss such national drinking water program issues as: Public Education Requirements for the Lead and Copper Rule; Lead and Copper Rule Revisions; Affordability Methodology for Small Public Water Systems; Underground Injection Control Program activities; and updates on ongoing activities, if sufficient time is available.

DATES: The Council meeting will be held on June 20, 2006, from 1:30 a.m.-5:15 p.m., June 21, 2006, from 9 a.m. to 5:30 p.m., and June 22, 2006, from 8:30 a.m.-11 a.m., Eastern Time.

ADDRESSES: The meeting will be held at The Madison Hotel, located at 1177 15th Street, NW., Washington, DC 20005.

FOR FURTHER INFORMATION CONTACT: Members of the public who would like to attend the meeting, present an oral statement, or submit a written statement, should contact Daniel Malloy, by e-mail at malloy.daniel@epa.gov, by phone 202-564-1724, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (4:30-5:30 p.m.) on June 21, 2006, for this purpose. Oral statements will be limited to five minutes. It is preferred that only one person present the statement on behalf of a group or organization. To ensure adequate time for public involvement, individuals or organizations interested in presenting an oral statement should notify Daniel Malloy by telephone at 202-564-1724 no later than June 9, 2006. Any person who wishes to file a written statement can do so before or after a Council meeting. Written statements received by June 9, 2006, will be distributed to all members of the Council before any final discussion or vote is completed. Any statements received June 10, 2006, or after the meeting will become part of the permanent meeting file and will be forwarded to the Council members for their information.

Special Accomodations

For information on access or services for individuals with disabilities, please contact Dan Malloy at 202-564-1724 or by e-mail at malloy.daniel@epa.gov. To request accommodation of a disability, please contact Dan Malloy, preferably at least 10 days prior to the meeting to give EPA as much time as possible to process your request.

Dated: May 25, 2006.
Cynthia C. Dougherty,
Director, Office of Ground Water and Drinking Water.

[FR Doc. E6-8396 Filed 5-31-06; 8:45 am]

BILLING CODE 6560-50-P